DEPARTMENT OF COMMERCE

National Oceanic and Atmospheric Administration

50 CFR Part 679

[Docket No. 220216-0049; RTID 0648-XC594]

Fisheries of the Exclusive Economic Zone Off Alaska; Reallocation of Pacific Cod in the Central Regulatory Area of the Gulf of Alaska

AGENCY: National Marine Fisheries Service (NMFS), National Oceanic and Atmospheric Administration (NOAA), Commerce.

ACTION: Temporary rule; reallocation.

SUMMARY: NMFS is reallocating the projected unused amount of Pacific cod from catcher vessels using trawl gear to catcher/processors using trawl gear and from vessels using jig gear to catcher vessels greater than or equal to 50 feet (15.2 meters (m)) length overall using hook-and-line gear in the Central Regulatory Area of the Gulf of Alaska (GOA). This action is necessary to allow the 2022 total allowable catch (TAC) of Pacific cod to be harvested.

DATES: Effective December 6, 2022, through 2400 hours, Alaska local time (A.l.t.), December 31, 2022.

FOR FURTHER INFORMATION CONTACT: Obren Davis, 907-586-7228.

SUPPLEMENTARY INFORMATION: NMFS manages the groundfish fishery in the GOA according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2022 Pacific cod TAC specified for catcher vessels using trawl gear in the Central Regulatory Area of the GOA is 6,099 metric tons (mt), as established by the final 2022 and 2023 harvest specifications for groundfish in the GOA (87 FR 11599, March 2, 2022).

The 2022 Pacific cod TAC specified for catcher/processors using trawl gear in the Central Regulatory Area of the GOA is 616 mt, as established by the final 2022 and 2023 harvest specifications for groundfish in the GOA (87 FR 11599, March 2, 2022).

The 2022 Pacific cod TAC specified for vessels using jig gear in the Central Regulatory Area of the GOA is 148 mt, as established by the final 2022 and 2023 harvest specifications for groundfish in the GOA (87 FR 11599, March 2, 2022).

The 2022 Pacific cod TAC specified for catcher vessels greater than or equal to 50 feet (15.2 m) length overall using hook-and-line gear in the Central Regulatory Area of the GOA is 984 mt, as established by the final 2022 and 2023 harvest specifications for groundfish in the GOA (87 FR 11599, March 2, 2022).

The Administrator, Alaska Region, NMFS, (Regional Administrator) has determined that catcher vessels using trawl gear will not be able to harvest 400 mt of the 2022 Pacific cod TAC allocated to those vessels under § 679.20(a)(12)(i)(B)(4), and vessels using jig gear will not be able to harvest 35 mt of the 2022 Pacific cod TAC allocated to those vessels under § 679.20(a)(12)(i)(B).

Therefore, in accordance with § 679.20(a)(12)(ii)(B), NMFS apportions 400 mt of Pacific cod from catcher vessels using trawl gear to the annual amount specified for catcher/processors using trawl gear and 35 mt of Pacific cod from vessels using jig gear to the annual amounts specified for catcher vessels greater than or equal to 50 feet (15.2 m) length overall using hook-and-line gear.

The harvest specifications for 2022 Pacific cod included in the final 2022 and 2023 harvest specifications for groundfish in the Central Regulatory Area of the GOA (87 FR 11599, March 2, 2022) is revised as follows: 5,699 mt to catcher vessels using trawl gear, 1,016 mt to catcher/processors using trawl gear, 113 mt to vessels using jig gear, and 1,019 mt to catcher vessels greater than or equal to 50 feet (15.2 m) length overall using hook-and-line gear.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest. This requirement is impracticable and contrary to the public interest as it would prevent NMFS from responding to the most recent fisheries data in a timely fashion and would allow for harvests that exceed the originally specified apportionment of the Pacific cod TAC. NMFS was unable to publish a notice providing time for public comment because the most recent, relevant data only became available as of December 1, 2022.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: December 2, 2022.
Jennifer M. Wallace,
Acting Director, Office of Sustainable Fisheries, National Marine Fisheries Service.

[FR Doc. 2022-26576 Filed 12-6-22; 8:45 am]

BILLING CODE 3510-22-P